DEPARTMENT OF HEALTH AND HUMAN SERVICES

Centers for Medicare & Medicaid Services

[CMS-1247-N]

Medicare Program; Town Hall Meeting in Calendar Year 2004 for Ambulance Condition Codes

AGENCY: Centers for Medicare & Medicaid Services (CMS), HHS.

ACTION: Notice of meeting.

SUMMARY: This notice announces a town hall meeting to provide a forum for all interested individuals to discuss and/or submit written comments on the establishment and implementation of Ambulance Condition Codes. Ambulance Condition Codes would be included in Chapter 15 of the CMS Manual System. Development of new ICD-9-CM codes for those Ambulance Condition Codes that do not currently have a satisfactory corresponding ICD-9-CM code will be a separate process that the ambulance industry must address with the National Center for Health Statistics (NCHS).

DATES: The town hall meeting announced in this notice will be held on Wednesday, February 4, 2004, from 10 a.m. to 4 p.m., e.s.t.

ADDRESSES: The town hall meeting will be held in the auditorium at the Centers for Medicare & Medicaid Services (CMS), 7500 Security Boulevard, Baltimore, Maryland 21244.

FOR FURTHER INFORMATION CONTACT: Anne Tayloe, (410) 786-4546.

SUPPLEMENTARY INFORMATION:

I. Background

On December 21, 2000, the Congress passed the Medicare, Medicaid, and SCHIP Benefits Improvement and Protection Act of 2000 (the BIPA) (Pub. L. 106-554). Section 1833(h) of the Social Security Act (the Act) and section 531(b) of the BIPA mandated procedures that permit public consultation on clinical laboratory services and durable medical equipment (DME) payment policy issues. We are applying this public consultation procedure to ambulance service policy issues for the purpose of this town hall meeting. This town hall meeting is intended to provide a forum for all interested parties to comment on and discuss the Ambulance Condition Codes. The Ambulance Condition Code information may be reviewed prior to the public meeting by accessing http://www.cms.hhs.gov/paymentsystems on the Internet. This information will be available for review beginning January 5, 2003.

II. Presentations

Registered persons from the public may discuss and make recommendations concerning the Ambulance Condition Codes. Individuals who wish to make formal presentations must include that information when registering. Presentations must be brief, and three written copies must be submitted to accompany the oral presentation. Presenters may also make copies available for approximately 50 meeting participants.

III. Registration Instructions

Beginning January 5, 2004, you may complete your registration on-line at http://www.cms.hhs.gov/paymentsystems. Please submit the following information when registering: name, company name, address, telephone number, and e-mail address and an indication of whether you wish to make a formal presentation. A confirmation will be sent upon receipt of the registration.

Because this meeting will be located on Federal property, for security reasons, any persons wishing to attend this meeting must register by close of business on January 23, 2004. In order to gain access to the building and grounds, participants must show to the Federal Protective Service or Guard Service personnel a government-issued photo identification and a copy of their registration confirmation. Individuals who have not registered in advance will not be allowed to enter the building to attend the meeting. Seating capacity is limited to the first 250 registrants.

The on-site check-in for visitors will be held from 9 a.m. until 10 a.m., followed by opening remarks. Please allow sufficient time to arrive to go through the security checkpoints. It is suggested that you arrive at 7500 Security Boulevard no later than 8:40 a.m. so that you will be able to arrive promptly at the meeting by 9 a.m. All items brought to CMS, whether personal or for the purpose of demonstration or to support a presentation, are subject to inspection.

Individuals requiring sign language interpretation for the hearing impaired or other special accommodations must provide that information upon registering for the meeting.

Authority: Sections 1102 and 1871 of the Social Security Act (42 U.S.C. 1302 and 1395hh)

(Catalog of Federal Domestic Assistance Program No. 93.773, Medicare—Hospital Insurance; and Program No. 93.774, Medicare—Supplementary Medical Insurance Program)

Dated: December 9, 2003.
Thomas A. Scully,
Administrator, Centers for Medicare & Medicaid Services.

[FR Doc. 03-31044 Filed 12-23-03; 8:45 am]

BILLING CODE 4120-01-P